COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add products to the Procurement List that will be furnished by nonprofit agencies employing persons who are blind or have other severe disabilities.

DATES: Comments must be received on or before: March 10, 2019.

ADDRESSES: Committee for Purchase From People Who Are Blind or Severely Disabled, 1401 S. Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

NSN—Product Name: 8465-01-F05-2045—Airborne Tactical Assault Panel (ATAP)

Mandatory Source of Supply: Southeastern Kentucky Rehabilitation Industries, Inc. (SEKRI), Corbin, KY

Mandatory for: 50% of the requirement for the U.S. Army

Contracting Activity: Army Contracting Command—Aberdeen Proving Ground, Natick Contracting Division

NSN—Product Name: MR 13009—MR Salad Chopper with Bowl

Mandatory Source of Supply: Cincinnati Association for the Blind, Cincinnati, OH

Mandatory for: The requirements of military commissaries and exchanges in accordance with the Code of Federal Regulations 41 CFR 51-6.4.

Contracting Activity: Defense Commissary Agency

Patricia Briscoe,
Deputy Director, Business Operations, (Pricing and Information Management).

[FR Doc. 2019-01657 Filed 2-7-19; 8:45 am]

BILLING CODE 6353-01-P